DEPARTMENT OF TRANSPORTATION

Federal Aviation Administration

14 CFR Part 95

[Docket No. 31093; Amdt. No. 528]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, September 15, 2016.

FOR FURTHER INFORMATION CONTACT: Richard A. Dunham, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on August 12, 2016.
John Duncan,
Director, Flight Standards Service.

Adoption of the Amendment

Accordingly, pursuant to the authority delegated to me by the Administrator, part 95 of the Federal Aviation Regulations (14 CFR part 95) is amended as follows effective at 0901 UTC, July 21, 2016.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 528, Effective Date September 15, 2016]
From | To | MEA
§ 95.6001 VICTOR ROUTES-U.S
§ 95.6005 VOR Federal Airway V5 Is Amended To Read in Part
Pecan, GA VORTAC | Vienna, GA VORTAC | *2000
*1900-MOCA
§ 95.6006 VOR Federal Airway V6 Is Amended To Read in Part
Liter, WY FIX | Sidney, NE VORTAC | *9500
*7600—MOCA
Sidney, NE VORTAC | North Platte, NE VORTAC | *6000
*5700-MOCA
Grand Island, NE | VORTAC HUSKR, NE FIX | *4000
*3200—MOCA
§ 95.6008 VOR Federal Airway V8 Is Amended To Read in Part
Grand Island, NE VORTAC | Huskr, NE FIX | *4000
*3200—MOCA
§ 95.6020 VOR Federal Airway V20 Is Amended To Read in Part
Maddi, GA FIX | Athens, GA VOR/DME | *3000
*2200-MOCA
Athens, GA VOR/DME | Electric City, SC VORTAC | *2800
*2300—MOCA
§ 95.6025 VOR Federal Airway V25 Is Amended To Read in Part
Santy, CA FIX | Woodside, CA VORTAC | 5100
§ 95.6035 VOR Federal Airway V35 Is Amended To Read in Part
*Saler, GA FIX | Pecan, GA VORTAC | **2000
*3000-MRA
**1700-MOCA
Maddi, GA FIX | Athens, GA VOR/DME | *3000
*2200-MOCA
Athens, GA VOR/DME | Electric City, SC VORTAC | *2800
*2300-MOCA
§ 95.6039 VOR Federal Airway V39 Is Amended To Read in Part
Lancaster, PA VORTAC | Boyer, PA FIX | 2900
§ 95.6066 VOR Federal Airway V66 Is Amended To Read in Part
Maddi, GA FIX | Athens, GA VOR/DME | *3000
*2200-MOCA
Athens, GA VOR/DME | Greenwood, SC VORTAC | *2500
*2200-MOCA
§ 95.6087 VOR Federal Airway V87 Is Amended To Read in Part
Santy, CA FIX | Woodside, CA VORTAC | 5100
§ 95.6109 VOR Federal Airway V109 Is Amended To Read in Part
Salad, CA FIX | *Oakland, CA VORTAC | 4000
*4700-MCA | Oakland, CA VORTAC, NE BND
§ 95.6138 VOR Federal Airway V138 Is Amended To Read in Part
Piety, WY FIX | Sidney, NE VORTAC | *7600
*7000-MOCA
Grand Island, NE VORTAC | Brady, NE FIX | *3600
*3200-MOCA
§ 95.6159 VOR Federal Airway V159 Is Amended To Read in Part
*Saler, GA FIX | Pecan, GA VORTAC | **2000
*3000-MRA
**1700-MOCA
Pecan, GA VORTAC | *Shany, GA FIX | **2000
*2800-MRA
**1800-MOCA
§ 95.6169 VOR Federal Airway V169 Is Amended To Read in Part
Akron, CO VOR/DME | Sidney, NE VORTAC | *6400
*6200-MOCA
§ 95.6197 VOR Federal Airway V197 Is Amended To Read in Part
Palmdale, CA VORTAC | *Fisch, CA FIX | 5000
*8300-MCA | Fisch, CA FIX, NW BND
§ 95.6325 VOR Federal Airway V325 Is Amended To Read in Part
Vesto, GA FIX | Athens, GA VOR/DME | *2500
*2200-MOCA
§ 95.6380 VOR Federal Airway V380 Is Amended To Read in Part
Wolbach, NE VORTAC | Grand Island, NE VORTAC | *4000
*3300-MOCA
§ 95.6417 VOR Federal Airway V417 Is Amended To Read in Part
Athens, GA VOR/DME | Colliers, SC VORTAC | *2500
*2100-MOCA
§ 95.6457 VOR Federal Airway V457 Is Amended To Read in Part
Broadway, NJ VOR/DME | Lancaster, PA VORTAC | 3000
§ 95.6499 VOR Federal Airway V499 Is Amended To Read in Part
Lancaster, PA VORTAC | Binghamton, NY VORTAC | 4500
§ 95.6578 VOR Federal Airway V578 Is Amended To Read in Part
Pecan, GA VORTAC | Tift Myers, GA VOR | *2500
*2300-MOCA
§ 95.6579 VOR Federal Airway V579 Is Amended To Read in Part
Viola, FL FIX | Sarasota, FL VORTAC | *3000
*1600-MOCA
§ 95.6440 Alaska VOR Federal Airway V440 Is Amended To Read in Part
Nome, AK VOR/DME | *Golos, AK FIX | 3000
*4500-MRA
*Golos, AK FIX | Unalakleet, AK VOR/DME | 3000
*4500-MRA
Unalakleet, AK VOR/DME | Yucon, AK FIX
W BND 4600
E BND 8000

From | To | Changeover points: Distance | Changeover points: From
§ 95.8003 VOR Federal Airway Changeover Point Airway Segment Alaska V440 Is Amended To Add Changeover Point
Nome, AK VOR/DME | Unalakleet, AK VOR/DME | 45 | Nome

[FR Doc. 2016-20292 Filed 8-23-16; 8:45 am]

BILLING CODE 4910-13-P